FEDERAL COMMUNICATIONS COMMISSION

47 CFR Part 27

[WT Docket Nos. 03-66; RM-10586; 03-67; 02-68; IB Docket No. 02-364; ET Docket No. 00-258; DA 08-1879]

Facilitating the Provision of Fixed and Mobile Broadband Access, Educational and Other Advanced Services in the 2150-2162 and 2500-2690 MHz Bands

AGENCY: Federal Communications Commission.

ACTION: Final rule; extension of time for filing replies to oppositions to petition for reconsideration.

SUMMARY: In this document, the Commission extends the deadline for filing replies to oppositions to petition for reconsideration. This action is taken in order to allow the Educational Broadband Service (EBS) and Broadband Radio Service (BRS) communities to discuss the complex issues at stake and develop consensus approaches where possible.

DATES: Replies to oppositions are due on or before September 5, 2008.

ADDRESSES: Federal Communications Commission, 445 12th Street, SW., Washington, DC 20554. You may submit replies to oppositions to petition for reconsideration, identified by WT Docket No. 03-66, RM-10586, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: (202) 418-0530 or TTY: (202) 418-0432.

For detailed instructions for submitting replies to oppositions to petition for reconsideration and additional information on the rulemaking process, see the SUPPLEMENTARY INFORMATION section of this document.

FOR FURTHER INFORMATION CONTACT: John Schauble, Deputy Chief, Broadband Division, Wireless Telecommunications Bureau, Federal Communications Commission, 445 12th Street, SW., Washington, DC 20554, at (202) 418-0797 or via the Internet to John.Schauble@fcc.gov.

SUPPLEMENTARY INFORMATION: This is a summary of an Order, DA 08-1879 adopted and released by the FCC on August 8, 2008 in WT Docket No. 03-66, RM-10586. The full text of this document is available for inspection and copying during normal business hours in the FCC Reference Information Center, Room CY-A257, 445 12th Street, SW., Washington, DC 20554. The complete text may be purchased from the Commission's duplicating contractor, Best Copy and Printing, Inc. (BCPI), Portals II, 445 12th Street, SW., Room CY-B402, Washington, DC 20554, (202) 488-5300, facsimile (202) 488-5563, or via e-mail at fcc@bcpiweb.com. The complete text is also available on the Commission's Web site at http://wireless.fcc.gov/edocspublic/attachment/DA-08-1879A1doc. This full text may also be downloaded at: http://wireless.fcc.gov/releases.html. Alternative formats (computer diskette, large print, audio cassette, and Braille) are available by contacting Brian Millin at (202) 418-7426, TTY (202) 418-7365, or via e-mail to bmillin@fcc.gov.

Summary of the Order

1. On March 20, 2008, the Commission released a Fourth Memorandum Opinion and Order (73 FR 26032, May 8, 2008) in the above-captioned proceeding. Petitions for reconsideration of the Fourth Memorandum Opinion and Order were due on June 9, 2008, oppositions to petitions for reconsideration were due on July 29, 2008, and replies to oppositions were due on August 13, 2008.

2. On June 9, 2008, the Wireless Communications Association International, Inc. (WCA) timely filed a Petition for Reconsideration of the Fourth Memorandum Opinion and Order. On July 29, 2008, the National EBS Association (NEBSA), Texas State Technical College—Sweetwater (TSTC), the ITFS/2.5 GHz Mobile Engineering & Development Alliance, Inc. (IMWED), and the Hispanic Information and Telecommunications Network, Inc. (HITN) timely filed oppositions to WCA's petition for reconsideration.

3. On August 6, 2008, WCA filed a motion for extension of time to extend the deadline for filing replies to the oppositions to WCA's petition for reconsideration of the Fourth Memorandum Opinion and Order from August 13, 2008 to September 5, 2008. WCA's petition sought, in part, a reconsideration of the Commission's decision to limit leases entered into before January 10, 2005 to 15 years from the date of execution. In their respective oppositions, HITN and NEBSA have proposed new clarifications to the Commission's leasing policies. No party has opposed the extension request.

4. It is the policy of the Commission that extensions of time are not routinely granted. Such extensions may be warranted when, among other reasons, the additional time will serve the public interest. We find that providing a limited extension will serve the public interest by allowing parties to discuss the complex issues at stake and develop consensus approaches where possible. We therefore grant WCA's motion for extension of time by extending the deadline to file replies to the oppositions on or before September 5, 2008.

Ordering Clauses

5. It is ordered that, pursuant to section 4(i) of the Communications Act of 1934, as amended, 47 U.S.C. 154(i), and § 1.46 of the Commission's rules, 47 CFR 1.46, that the Motion for Extension of Time filed by the Wireless Communications Association International, Inc. on August 6, 2008 is granted, and the time for filing replies to opposition in this proceeding is extended to September 5, 2008.

6. This action is taken under delegated authority pursuant to §§ 0.131 and 0.331 of the Commission's rules, 47 CFR 0.131, 0.331.

Federal Communications Commission.
James D. Schlichting,
Acting Chief, Wireless Telecommunications Bureau.

[FR Doc. E8-19181 Filed 8-18-08; 8:45 am]

BILLING CODE 6712-01-P